ENVIRONMENTAL PROTECTION AGENCY

40 CFR Part 52

[EPA-R09-OAR-2014-0469; FRL-9912-66-Region 9]

Revisions to the Arizona State Implementation Plan; State Stationary Source Rules

AGENCY: Environmental Protection Agency (EPA).

ACTION: Proposed rule.

SUMMARY: The Environmental Protection Agency (EPA) is proposing to approve revisions to the Arizona State Implementation Plan (SIP). These revisions include two State statutes and certain State rules that govern stationary sources under the jurisdiction of the Arizona Department of Environmental Quality and that establish definitions and other general provisions; ambient air quality standards and area designations; and emissions limitations and other requirements for certain type of stationary sources. Generally, approval of these revisions updates and replaces previously approved provisions in the Arizona SIP, but EPA is also approving a few rules that are new to the Arizona SIP and a few rescissions that remove certain other rules from the Arizona SIP without replacement. The EPA is approving these revisions because they meet all applicable requirements of the Clean Air Act (CAA or the Act).

DATES: Any comments on this proposal must arrive by October 23, 2014.

ADDRESSES: Submit comments, identified by docket number EPA-R09-OAR-2014-0469, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment. Electronic files should avoid the use of special characters, any form of encryption, and be free of any defects or viruses.

Docket: Generally, documents in the docket for this action are available electronically at www.regulations.gov and in hard copy at EPA Region IX, 75 Hawthorne Street, San Francisco, California 94105-3901. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Christine Vineyard, EPA Region IX, (415) 947-4125, vineyard.christine@epa.gov.

SUPPLEMENTARY INFORMATION: This proposal addresses the statutes and rules in the following table:

Submitted Arizona Statutes and Rules Approved in This Action

Arizona Revised Statutes (ARS) Section No. | Title | State effective date | Submitted
49-402 | State and county control | Amended through Laws 2002, Ch. 110, § 1 | 10/29/12
49-426 (excluding paragraphs D, E.1, F, I, J, and M) ¹ | Permits; duties of director; exceptions; applications; objections; fees | Amended through Laws 1997, Ch. 178, § 5 | 07/28/11

Arizona Administrative Code (AAC) Rule No. | Title | Effective date | Submitted
R18-2-101 [excluding definitions (2), (20), (32), (87), (109), and (122)] ² | Definitions | Various | 10/29/12
R18-2-102 | Incorporated Materials | 08/07/12 | 10/29/12
R18-2-201 | Particulate Matter: PM10 and PM2.5 | 08/07/12 | 10/29/12
R18-2-202 | Sulfur Oxides (Sulfur Dioxide) | 08/07/12 | 10/29/12
R18-2-203 | Ozone: One-hour Standard and Eight-hour Averaged Standard | 08/07/12 | 10/29/12
R18-2-204 | Carbon monoxide | 09/26/90 | 07/28/11
R18-2-205 | Nitrogen Oxides (Nitrogen Dioxide) | 08/07/12 | 10/29/12
R18-2-206 | Lead | 08/07/12 | 10/29/12
R18-2-210 | Attainment, Nonattainment, and Unclassifiable Area Designations | 08/07/12 | 10/29/12
R18-2-215 | Ambient air quality monitoring methods and procedures | 09/26/90 | 10/29/12
R18-2-216 | Interpretation of Ambient Air Quality Standards and Evaluation of Air Quality Data | 03/07/09 | 10/29/12
R9-3-218 (rescission) | Violations | 08/07/12 (repeal) | 07/28/11
R18-2-601 | General | 11/15/93 | 07/15/98
R18-2-604 | Open Areas, Dry Washes, or Riverbeds | 11/15/93 | 07/15/98
R18-2-605 | Roadways and Streets | 11/15/93 | 07/15/98
R18-2-606 | Material Handling | 11/15/93 | 07/15/98
R18-2-607 | Storage piles | 11/15/93 | 07/15/98
R18-2-608 | Mineral Tailings | 03/07/09 | 07/28/11
R18-2-614 | Evaluation of nonpoint source emissions | 08/07/12 | 07/15/98
R18-2-701 | Definitions | 08/07/12 | 10/29/12
R18-2-703 | Standards of Performance for Existing Fossil-fuel Fired Steam Generators and General Fuel-burning Equipment | 03/07/09 | 07/28/11
R18-2-704 | Standards of Performance for Incinerators | 08/04/07 | 07/28/11
R18-2-706 | Standards of Performance for Existing Nitric Acid Plants | 11/15/93 | 07/15/98
R18-2-707 | Standards of Performance for Existing Sulfuric Acid Plants | 11/15/93 | 07/15/98
R9-3-509 (rescission) | Standards of Performance for Existing Petroleum Refineries | Not yet repealed but no applicable sources | 07/15/98
R18-2-714 | Standards of Performance for Existing Sewage Treatment Plants | 11/15/93 | 07/15/98
R18-2-715(F), (G) and (H) | Standards of Performance for Existing Primary Copper Smelters: Site-Specific Requirements | 03/07/09 | 07/28/11
R9-3-518 (rescission) | Standards of Performance for Existing Kraft Pulp Mills | 08/04/07 (repeal) | 07/28/11
R18-2-719 | Standards of Performance for Existing Stationary Rotating Machinery | 03/07/09 | 07/28/11
R18-2-720 | Standards of Performance for Existing Lime Manufacturing Plants | 03/07/09 | 07/28/11
R18-2-723 | Standards of Performance for Existing Concrete Batch Plants | 11/15/93 | 07/15/98
R18-2-724 | Standards of Performance for Fossil-fuel Fired Industrial and Commercial Equipment | 03/07/09 | 07/28/11
R18-2-726 | Standards of Performance for Sandblasting Operations | 11/15/93 | 07/15/98
R18-2-728 | Standards of Performance for Existing Ammonium Sulfide Manufacturing Plants | 11/15/93 | 07/15/98
R18-2-729 | Standards of Performance for Cotton Gins | 08/04/07 | 07/28/11
R18-2-730 | Standards of Performance for Unclassified Sources | 03/07/09 | 07/28/11
R18-2-732 | Standards of Performance for Existing Hospital/Medical/Infectious Waste Incinerators | 08/04/07 | 07/28/11
Appendix 2 | Test Methods and Protocols | 10/03/05 | 07/28/11
Appendix 10 (rescission) | Evaluation of Air Quality Data | 03/07/09 (repeal) | 07/28/11
Appendix 11 (rescission) | Allowable Particulate Emissions Computations | 03/07/09 (repeal) | 07/28/11
Not applicable | Arizona Testing Manual for Air Pollutant Emissions, Revision F, March 1992, Section 1 | March 1992 | 07/28/11
¹ The EPA will be taking action on ARS section 49-426(F) in a separate rulemaking action that will relate to Arizona's amended New Source Review program. ADEQ does not intend the other paragraphs that are listed (i.e., D, E.1, I, J, and M) to be part of the Arizona SIP.
² The EPA will be taking action on the following six definitions in R18-2-101 in a separate rulemaking action that will relate to Arizona's amended New Source Review program: “actual emissions,” “begin actual construction,” “construction,” “net emissions increase,” “potential to emit,” and “regulated NSR pollutant.”

In the Rules and Regulations section of this Federal Register, we are approving these statutes and rules in a direct final action without prior proposal because we believe these SIP revisions are not controversial. If we receive adverse comments, however, we will publish a timely withdrawal of the direct final rule and address the comments in subsequent action based on this proposed rule. Please note that if we receive adverse comment on an amendment, paragraph, or section of this rule and if that provision may be severed from the remainder of the rule, we may adopt as final those provisions of the rule that are not the subject of an adverse comment.

We do not plan to open a second comment period, so anyone interested in commenting should do so at this time. If we do not receive adverse comments, no further activity is planned. For further information, please see the direct final action.

Dated: May 30, 2014.
Jared Blumenfeld,
Regional Administrator, Region IX.

Editorial Note: This document was received for publication by the Office of Federal Register on September 17, 2014.

[FR Doc. 2014-22479 Filed 9-22-14; 8:45 am]

BILLING CODE 6560-50-P